COMMITTEE FOR THE IMPLEMENTATION OF TEXTILE AGREEMENTS

Denial of Participation in the Special Access Program

January 4, 2002.

AGENCY: Committee for the Implementation of Textile Agreements (CITA).

ACTION: Issuing a directive to the Commissioner of Customs suspending participation in the Special Access Program.

EFFECTIVE DATE: January 14, 2002.

FOR FURTHER INFORMATION CONTACT: Anna Flaaten, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The Committee for the Implementation of Textile Agreements (CITA) has determined that Olympic Mills Corporation has violated the requirements for participation in the Special Access Program and has suspended Olympic Mills Corporation from participation in the Program for the one-year period January 14, 2002 through January 13, 2003.

Through the letter to the Commissioner of Customs published below, CITA directs the Commissioner to prohibit entry of products under the Special Access Program by or on behalf of Olympic Mills Corporation during the period January 14, 2002 through January 13, 2003, and to prohibit entry by or on behalf of Olympic Mills Corporation under the Program of products manufactured from fabric exported from the United States during that period.

Requirements for participation in the Special Access Program are available in Federal Register notice 63 FR 16474, published on April 3, 1998.

D. Michael Hutchinson,
Acting Chairman, Committee for the Implementation of Textile Agreements.

Committee for the Implementation of Textile Agreements

January 4, 2002.

Commissioner of Customs,

Department of the Treasury, Washington, DC 20229.

Dear Commissioner: The purpose of this directive is to notify you that the Committee for the Implementation of Textile Agreements has suspended Olympic Mills Corporation from participation in the Special Access Program for the period January 14, 2002 through January 13, 2003. You are therefore directed to prohibit entry of products under the Special Access Program by or on behalf of Olympic Mills Corporation during the period January 14, 2002 through January 13, 2003. You are further directed to prohibit entry of products under the Special Access Program by or on behalf of Olympic Mills Corporation manufactured from fabric exported from the United States during the period January 14, 2002 through January 13, 2003.

Sincerely,

D. Michael Hutchinson,

Acting Chairman, Committee for the Implementation of Textile Agreements.

[FR Doc.02-509 Filed 1-8-02; 8:45 am]

BILLING CODE 3510-DR-S